POSTAL SERVICE

39 CFR Part 111

Machinable Parcel Testing Changes

AGENCY: Postal Service.

ACTION: Final rule.

SUMMARY: On February 20, 2004 (69 FR 7887), the Postal Service™ published a proposed rule amending the Domestic Mail Manual (DMM ™ ) to centralize the processing of requests for parcel testing. Such testing is requested to determine if parcels can be successfully processed on bulk mail center (BMC) parcel sorters when they do not conform to the general machinability criteria in the DMM. The Postal Service proposed DMM changes specific to this issue. This notice announces the adoption of these changes, which support the Postal Service's goal of consistency in determining the machinability of parcels.

EFFECTIVE DATE: April 17, 2004.

FOR FURTHER INFORMATION CONTACT: Obataiye B. Akinwole, 703-292-3643.

SUPPLEMENTARY INFORMATION: On April 15, 2004, Domestic Mail Manual (DMM) changes will be adopted to implement the new requirements for testing parcel machinability. The Postal Service believes that systemwide consistency will be achieved if exception requests are processed at one central location rather than at each BMC. This change is in line with the Postal Service's obligation to ensure prompt, efficient, reliable responses to customer needs, and will ensure that customer expectations of consistency across postal operations are met.

Comments Received

The Postal Service received one comment in response to the February 20, 2004, proposed rule. The comment came from a professional mailer. The mailer supports the proposed rule as a means of creating more consistent rulings on machinable parcels. The mailer also encouraged the Postal Service to expedite the publication of a final rule implementing the new process.

For the reasons discussed above, the Postal Service hereby adopts the following amendments to the Domestic Mail Manual (DMM), which is incorporated by reference in the Code of Federal Regulations (see 39 CFR part 111).

List of Subjects in 39 CFR Part 111

Postal Service.

PART 111—[AMENDED]

1. The authority citation for 39 CFR Part 111 continues to read as follows:

Authority: 5 U.S. C. 552(a); 39 U.S.C. 101, 401, 403, 404, 414, 3001-3011, 3201-3219, 3403-3406, 3621, 3626, 5001.

2. Revise the following sections of the Domestic Mail Manual (DMM) as set forth below:

Domestic Mail Manual (DMM)

* * * * *

C Characteristics and Content

C000 General Information

C010 General Mailability Standards

* * * * *

[Delete 7.0, Mailing Test Packages.]

* * * * *

C050 Mail Processing Categories

* * * * *

4.0 MACHINABLE PARCEL

* * * * *

4.3 Exception

[Revise 4.3 to read as follows:]

Some parcels may be successfully processed on BMC parcel sorters even though they do not conform to the general machinability criteria in 4.1. The manager, BMC Operations, USPS Headquarters (see G043 for address) may authorize a mailer to enter such parcels as machinable parcels rather than irregular parcels if the parcels are tested on BMC parcel sorters and prove to be machinable. Mailers who wish to have parcels tested for machinability on USPS parcel sorting machines must:

a. Submit a written request to BMC Operations. The request must list mailpiece characteristics for every shape, weight, and size to be considered. If the letter requesting testing describes a mailpiece that falls within the specifications of pieces that were tested previously, the mailpiece will not be tested.

b. Describe mailpiece construction, parcel weight(s), estimated number of parcels to be mailed in the coming year, and preparation level (e.g., destination BMC pallets).

c. Send 100 samples to the test facility designated by the manger, BMC Operations, at least 6 weeks prior to the first mailing date. The manager, BMC Operations, will recommend changes, to ensure machinability, of parcels that do not qualify.

* * * * *

6.0 OUTSIDE PARCEL (NONMACHINABLE)

[Revise the first sentence to read as follows:]

An outside parcel is a parcel that exceeds any of the maximum dimensions for a machinable parcel. * * *

* * * * *

G General Information

G000 The USPS and Mailing Standards

* * * * *

G040 Information Resources

* * * * *

G043 Address List for Correspondence

[Add the following address:] BMC Operations, US Postal Service, 475 L'Enfant PLZ, SW., RM 7631, Washington, DC 20260-2806.

* * * * *

We will publish an appropriate amendment to 39 CFR part 111 to reflect these changes.

Neva R. Watson,
Attorney, Legislative.

[FR Doc. 04-9414 Filed 4-23-04; 8:45 am]

BILLING CODE 7710-12-P